DEPARTMENT OF HEALTH AND HUMAN SERVICES

Food and Drug Administration

Workshop to Discuss Development of a Women's Health Information Sharing Network

AGENCY: Food and Drug Administration, HHS.

ACTION: Notice of meeting.

The Food and Drug Administration's (FDA's) Office of Women's Health is announcing the following meeting: “Workshop to Develop a Women's Health Information Sharing Network” to discuss opportunities for national organizations to share information about their women's health education activities. There will be two meetings. One will focus on Hispanic/Latina populations, and the other will focus on all other communities. Representatives of national community-based organizations are invited. A continental breakfast will be provided.

Date and Time: The meetings will be held on April 12 and 13, 2007, from 8:30 am to 11:30 am.

Location: The meetings will be held at AARP, 601 East St., NW., Washington, DC 20049.

Contact: Susana Perry, FDA Office of Women's Health (HF-8), Food and Drug Administration, 5600 Fishers Lane, rm. 16-65, Rockville, MD 20857, 301-827-0350, FAX: 301-827-9194, e-mail: susana.perry@fda.hhs.gov.

Registration: There is no fee, but pre-registration is required for security purposes by AARP. Seating is limited to 20 participants for each meeting.

If you need special accommodations due to a disability, please contact Susana Perry at least 7 days in advance (by April 6, 2007).

Dated: March 23, 2007.
Jeffrey Shuren,
Assistant Commissioner for Policy.

[FR Doc. 07-1546 Filed 3-27-07; 8:50 am]

BILLING CODE 4160-01-S